DEPARTMENT OF THE INTERIOR

Fish and Wildlife Service

50 CFR Part 17

[Docket No. FWS-R2-ES-2022-0162; FF09E21000 FXES1111090FEDR 234]

RIN 1018-BG22

Endangered and Threatened Wildlife and Plants; Endangered Species Status for the Dunes Sagebrush Lizard

AGENCY: Fish and Wildlife Service, Interior.

ACTION: Proposed rule; extension of comment period.

SUMMARY: We, the U.S. Fish and Wildlife Service (Service), are extending the comment period on our July 3, 2023, proposed rule to list the dunes sagebrush lizard (Sceloporus arenicolus), a species found only in southeastern New Mexico and west Texas, as an endangered species under the Endangered Species Act of 1973, as amended (Act). We are extending the proposed rule's comment period for 30 days to give all interested parties an additional opportunity to comment on the proposed rule. Comments previously submitted need not be resubmitted as they are already incorporated into the public record and will be fully considered in the final rule.

DATES: The comment period on the proposed rule that published July 3, 2023, at 88 FR 42661, is extended. We will accept comments received or postmarked on or before October 2, 2023.

ADDRESSES:

Comment submission: You may submit comments by one of the following methods:

(1) Electronically: Go to the Federal eRulemaking Portal: https://www.regulations.gov. In the Search box, enter FWS-R2-ES-2022-0162, which is the docket number for the July 3, 2023, proposed rule. Then click on the Search button. On the resulting page, in the Search panel on the left side of the screen, under the Document Type heading, click on the Proposed Rule box to locate the correct document. You may submit a comment by clicking on “Comment.”

(2) By hard copy: Submit by U.S. mail to: Public Comments Processing, Attn: FWS-R2-ES-2022-0162, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Shawn Sartorius, Field Supervisor, U.S. Fish and Wildlife Service, New Mexico Ecological Services Field Office, 2105 Osuna NE, Albuquerque, NM 87113; telephone 505-346-2525. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On July 3, 2023, we published a proposed rule (88 FR 42661) to list the dunes sagebrush lizard as an endangered species under the Endangered Species Act of 1973, as amended (16 U.S.C. 1531 et seq.). The proposed rule opened a 60-day comment period, ending September 1, 2023, and announced a public hearing on July 31, 2023. We have received multiple requests to extend the public comment period. With this document, we extend the public comment period for an additional 30 days, as specified above in DATES.

Public Comments

We will accept written comments and information during the extended comment period on our proposed rule to list the dunes sagebrush lizard. We will consider information from all interested parties. We intend that any final action resulting from the proposal will be based on the best scientific and commercial data available and will be as accurate and as effective as possible. Our final determination will take into consideration all comments and any additional information we receive during the open comment period on the proposed rule.

Because we will consider all comments and information we receive during the open comment period, our final determination may differ from our July 3, 2023, proposed rule (88 FR 42661). Based on the new information we receive (and any comments on that new information), we may conclude that the dunes sagebrush lizard may warrant a different listing status compared to the original proposed rule.

If you already submitted comments or information on the July 3, 2023, proposed rule, please do not resubmit them. Any such comments are incorporated as part of the public record of the rulemaking proceeding, and we will fully consider them in the preparation of our final determination.

Comments should be as specific as possible. Please include sufficient information with your submission (such as scientific journal articles or other publications) to allow us to verify any scientific or commercial information you assert. Please note that submissions merely stating support for, or opposition to, the action under consideration without providing supporting information, although noted, will not be considered in making a determination, as section 4(b)(1)(A) of the Act directs that determinations as to whether any species is an endangered species or a threatened species must be made “solely on the basis of the best scientific and commercial data available.”

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov. Comments and materials we receive, as well as supporting documentation we used in preparing the proposed rule, will be available for public inspection on https://www.regulations.gov at FWS-R2-ES-2022-0162.

Authors

The primary authors of this document are the staff members of the Fish and Wildlife Service's Species Assessment Team and the New Mexico Ecological Services Field Office.

Authority

The Endangered Species Act of 1973, as amended (16 U.S.C. 1531 et seq.), is the authority for this action.

Stephen Guertin,
Acting Director, U.S. Fish and Wildlife Service.

[FR Doc. 2023-18657 Filed 8-29-23; 8:45 am]

BILLING CODE 4333-15-P